DEPARTMENT OF COMMERCE

National Institute of Standards and Technology

Agency Information Collection Activities; Submission to the Office of Management and Budget (OMB) for Review and Approval; Comment Request; Baldrige Executive Fellow Program

AGENCY: National Institute of Standards and Technology (NIST), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before January 18, 2022.

ADDRESSES: Interested persons are invited to submit written comments by mail to Maureen O'Reilly, Management Analyst, NIST by email to PRAcomments@doc.gov. Please reference OMB Control Number 0693-0076 in the subject line of your comments. Do not submit Confidential Business Information or otherwise sensitive or protected information.

FOR FURTHER INFORMATION CONTACT: Requests for additional information or specific questions related to collection activities should be directed to Dawn Bailey, Baldrige Performance Excellence Program, NIST, 100 Bureau Drive, Stop 1020, Gaithersburg, MD 20899, 301-975-3074, dawn.bailey@nist.gov.

SUPPLEMENTARY INFORMATION:

I. Abstract

The Baldrige Performance Excellence Program seeks applicants for the Baldrige Executive Fellows Program, a one-year, leadership development experience for direct reports to the most senior leader in an organization or business unit leaders. Using the Baldrige Excellence Framework as a foundation, the program discusses impactful leadership through visits to Baldrige Award recipient sites and senior leaders, virtual discussions, and face-to-face peer training using an adult learning model. Fellows will discuss how to achieve performance excellence for their own organizations, stimulate innovation, and build the knowledge and capabilities necessary for organizational sustainability. Fellows will create a capstone project that tackles an issue of strategic importance in their own organizations; capstones have included innovating supply chains and customer relationship management systems, improving health systems and their communication with physicians, and creating balanced scorecards. The Baldrige Executive Fellows Program has been nationally recognized as a leading executive-development program as part of the leadership awards, sponsored by HR.com. The program is aligned with the Baldrige Program mission to improve the competitiveness and performance of U.S. organizations for the benefit of all U.S. residents. The Baldrige Program and its Malcolm Baldrige National Quality Award were created by Public Law 100-107 (The Malcolm Baldrige National Quality Improvement Act of 1987) and signed into law on August 20, 1987.

II. Method of Collection

Senior leaders interested in applying for selection as a Baldrige Fellow must provide the following package of material directly to the Baldrige Program:

1. A resumé, including email, postal address, and telephone contact information; and the name and email address of an assistant or alternate contact person.

2. An organizational chart that includes names and titles showing the applicant's position within the organization.

3. A recommendation letter from the applicant's highest-ranking official showing the organization's support of his/her participation in the program.

4. A list of key competitors (in order that the Baldrige Program may avoid creating a cohort that would be unable to share effectively due to competitive situations).

U.S. mail or other delivery service is one way to provide materials. Another secure way to provide materials is through the NIST Secure File Transfer Service (“N-files”). Information is collected one time per year (typically in September-December) for each cohort of Fellows.

Information is needed to make selection decisions that are based on (1) sector mix, (2) appropriate level within the organization, (3) likelihood to follow through, (4) diversity, and (5) no direct competitors with participating award recipients or other Fellows.

III. Data

OMB Control Number: 0693-0076.

Form Number(s): None.

Type of Review: Regular submission, extension of a current information collection.

Affected Public: Any senior or mid-level leader from business or other for-profit organizations; not-for-profit institutions; state, local, or tribal government; Federal government.

Estimated Number of Respondents: 24 per year.

Estimated Time per Response: 1 hour to gather materials.

Estimated Total Annual Burden Hours: 24 hours.

Estimated Total Annual Cost to Public: $0.

Respondent's Obligation: Voluntary.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-24955 Filed 11-15-21; 8:45 am]

BILLING CODE 3510-13-P